ENVIRONMENTAL PROTECTION AGENCY

[OEI-100000; FRL-6497-9]

RIN 2070-AD09

Guidance Documents for Dioxin and Dioxin-like Compounds and Other Persistent Bioaccumulative Toxic (PBT) Chemicals; Community Right-to-Know Toxic Chemical Release Reporting

AGENCY: Environmental Protection Agency (EPA).

ACTION: Notice of availability; request for comments and request for workgroup members.

SUMMARY: EPA is annoucing the availability of a draft guidance document for the dioxin and dioxin-like compounds category which is subject to reporting under section 313 of the Emergency Planning and Community Right-to-Know Act of 1986 (EPCRA) and section 6607 of the Pollution Prevention Act of 1990 (PPA). The category of dioxin and dioxin-like compounds was added to the EPCRA section 313 list of toxic chemicals as part of a final rule that lowered the reporting thresholds for certain persistent bioaccumulative toxic (PBT) chemicals. EPA is requesting comments on this draft guidance document and is also requesting the participation of interested stakeholders on a workgroup to assist in the preparation of the final guidance document. In addition, EPA is considering establishing another workgroup or workgroups to assist in the development of guidance documents for other PBT chemicals that are subject to the new reporting requirements under the October 29, 1999 final rule. EPA would like to know whether interested stakeholders wish to participate on such workgroups.

DATES: Written comments, identified by the docket control number OEI-100000, must be received by EPA on or before July 17, 2000.

ADDRESSES: Comments may be submitted by mail, electronically, or in person. Please follow the detailed instructions for each method as provided in Unit I. of the SUPPLEMENTARY INFORMATION section of this document.

FOR FURTHER INFORMATION CONTACT: Daniel R. Bushman, Petitions Coordinator, (202) 260-3882, e-mail: bushman.daniel@epa.gov, for specific information on this document, or for more information on EPCRA section 313, the Emergency Planning and Community Right-to-Know Hotline, Environmental Protection Agency, Mail Code 5101, 1200 Pennsylvania Ave., NW., Ariel Rios Building, Washington, DC 20460, Toll free: 1-800-535-0202, in Virginia and Alaska: (703) 412-9877 or Toll free TDD: 1-800-553-7672. Information concerning this notice is also available on EPA's website at http://www.epa.gov/tri.

SUPPLEMENTARY INFORMATION:

I. General Information

A. Does this Notice Apply to Me?

You may be interested in this notice if you manufacture, process, or otherwise use aldrin, chlordane, dioxin and certain dioxin-like compounds, heptachlor, hexachlorobenzene, isodrin, mercury, mercury compounds, methoxychlor, octachlorostyrene, pendimethalin, pentachlorobenzene, polychlorinated biphenyls, certain polycyclic aromatic compounds, tetrabromobisphenol A, toxaphene, and trifuralin. Potentially interested categories and entities may include, but are not limited to:

Category | Examples of Potentially Interested Entities
Industry | SIC major group codes 10 (except 1011, 1081, and 1094), 12 (except 1241), or 20 through 39; industry codes 4911 (limited to facilities that combust coal and/or oil for the purpose of generating power for distribution in commerce); 4931 (limited to facilities that combust coal and/or oil for the purpose of generating power for distribution in commerce); or 4939 (limited to facilities that combust coal and/or oil for the purpose of generating power for distribution in commerce); or 4953 (limited to facilities regulated under the Resource Conservation and Recovery Act, subtitle C, 42 U.S.C. section 6921 et seq.), or 5169, or 5171, or 7389 (limited to facilities primarily engaged in solvent recovery services on a contract or fee basis)
Federal Government | Federal facilities

This table is not intended to be exhaustive, but rather provides a guide for readers regarding entities likely to be interested in this notice. Other types of entities not listed in the table could also be interested. To determine whether your facility may be interested in this notice, you should carefully examine the applicability criteria in part 372, subpart B of Title 40 of the Code of Federal Regulations. If you have questions regarding the applicability of this notice to a particular entity, consult the person listed in the preceding “FOR FURTHER INFORMATION CONTACT” section.

B. How Can I Get Additional Information or Copies of this Document or Other Support Documents?

1. Electronically. You may obtain electronic copies of this document from the EPA internet Home Page at http://www.epa.gov/. On the Home Page select “Laws and Regulations” and then look up the entry for this document under the “Federal Register—Environmental Documents.” You can also go directly to the “Federal Register” listings at http://www.epa.gov/fedrgstr/. The draft guidance document for the dioxin and dioxin-like compounds category is available for downloading at http://www.epa.gov/tri.

2. In person. The Agency has established an official record for this action under docket control number OEI-100000. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. Be sure to identify the appropriate docket control number (i.e., “OEI-100000”) in your correspondence.

1. By mail. Submit written comments to: Document Control Office (7407), Office of Pollution Prevention and Toxics (OPPT), Environmental Protection Agency, 1200 Pennsylvania Ave., NW., Ariel Rios Building, Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is: (202) 260-7093.

3. Electronically. Submit your comments electronically by e-mail to: “oppt.ncic@epa.gov.” Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-100000. Electronic comments on this document may also be filed online at many Federal Depository Libraries.

D. How Should I Handle CBI Information that I Want to Submit to the Agency?

You may claim information that you submit in response to this document as CBI by marking any part or all of that information as CBI. Information so marked will not be disclosed except in accordance with procedures set forth in 40 CFR part 2. A copy of the comment that does not contain CBI must be submitted for inclusion in the public record. Information not marked confidential will be included in the public docket by EPA without prior notice. If you have any questions about CBI or the procedures for claiming CBI, please consult with the person identified in the “FOR FURTHER INFORMATION CONTACT” section.

II. Background Information

A. What is the Purpose of this Notice?

The purpose of this notice is to make available for comment a draft document titled “Emergency Planning and Community Right-to-Know Act—Section 313: Guidance for Reporting for the Dioxin and Dioxin-like Compounds Category.” The category of dioxin and dioxin-like compounds was added to the EPCRA section 313 list of toxic chemicals as part of a final rule that lowered the reporting thresholds for certain PBT chemicals (64 FR 58666, October 29, 1999) (FRL-6389-11). EPA would like to receive comments on the technical contents of the guidance document particularly on the methods of estimating releases and other waste management quantities for dioxin and dioxin-like compounds. Unit I.B. contains information on how to get copies of the draft guidance document. Through this notice EPA is also requesting the participation of interested stakeholders on a workgroup to assist in the preparation of the final guidance document for the dioxin and dioxin-like compounds category. Stakeholders interested in participating on the workgroup should contact the person identified in the “FOR FURTHER INFORMATION CONTACT” section by July 17, 2000. Whether or not you participate on the workgroup, your comments will be considered in preparing the final guidance document.

In addition, this notice also requests comments on whether interested stakeholders wish to participate on a workgroup to develop guidance documents for the other PBT chemicals. These other guidance documents would cover the following chemicals: aldrin, chlordane, heptachlor, hexachlorobenzene, isodrin, mercury, mercury compounds, methoxychlor, octachlorostyrene, pendimethalin, pentachlorobenzene, polychlorinated biphenyls, polycyclic aromatic compounds (PACs), tetrabromobisphenol A, toxaphene, and trifuralin. At this point EPA anticipates developing individual guidance documents for the PACs category and for mercury/mercury compounds and another guidance document to cover the other PBT chemicals. Whether or not workgroups are formed for these other guidance documents, EPA will issue drafts of the guidance documents for public review and comment. If you are interested in participating on a workgroup for the development of these other guidance documents, please contact the person identified in the “FOR FURTHER INFORMATION CONTACT” section by July 17, 2000.

B. How Will the Interested Stakeholder Workgroups Function?

All interested parties are welcome to participate on the workgroups. The workgroups will not revisit any issues raised during the rulemaking process or the determinations contained in the final rule. The workgroups will deal only with guidance on how to report given the requirements of the final rule. The workgroups will make recommendations on the contents of the guidance documents, and then EPA will issue draft final documents and provide them to interested stakeholders for final comment. EPA will then review the final comments and issue the final guidance documents. The workgroup for the dioxin and dioxin-like compounds category will be formed and have its first meeting after the end of the comment period for this notice to allow time for the processing of any comments received. Whether or not workgroups are formed to develop guidance documents for the other PBT chemicals, a separate Federal Register notice will be issued to obtain comments on the other PBT chemical draft guidance documents. This type of process for developing guidance documents is similar to the processes that EPA has used for the development of guidance documents for other regulations.

List of Subjects

Environmental protection, Chemicals, Community right-to-know, Hazardous substances, Intergovernmental relations, Reporting and recordkeeping requirements, Superfund.

Dated: May 30, 2000.
Margaret N. Schneider,
Principal Deputy Assistant Administrator, Office of Environmental Information.

[FR Doc. 00-14871 Filed 6-14-00; 8:45 am]

BILLING CODE 6560-50-F